DEPARTMENT OF COMMERCE

Foreign-Trade Zones Board

[Docket 8-2010]

Foreign-Trade Zone 77—Memphis, TN Application for Subzone Cummins, Inc. (Engine Components Distribution) Memphis, TN

An application has been submitted to the Foreign-Trade Zones Board (the Board) by the City of Memphis, grantee of FTZ 77, requesting special-purpose subzone status for the internal-combustion engine parts warehousing and distribution facility of Cummins, Inc. (Cummins), located in Memphis, Tennessee. The application was submitted pursuant to the provisions of the Foreign-Trade Zones Act, as amended (19 U.S.C. 81a-81u), and the regulations of the Board (15 CFR part 400). It was formally filed on February 4, 2010.

The Cummins facility (715 employees/23.3 acres/654,750 sq. ft.) is located at 4155 Quest Way in Memphis (Shelby County), Tennessee. The facility is used for warehousing and distribution of foreign and domestic-origin internal combustion engine (diesel and CNG) parts and components for the U.S. market and export. FTZ procedures would be utilized to support Cummins U.S.-based distribution activity. The foreign-origin parts and components that would be admitted to the proposed subzone for distribution include internal engine components, blocks, cylinder heads and related components, gaskets, seals, fasteners, springs, bearings, caps, clamps, v-belts, dampeners, articles of rubber, hoses, pipes and tubes, filters, gauges, glow plugs, shims, bushings, connectors, pumps, valves, flywheels, manifolds, exhaust components, gears, pulleys, oil coolers, water pumps, cable, motors, thermostats, electrical components, wiring harnesses, lights, fuel injection components, turbochargers, and block heaters (duty rate range: free—9.9%). The applicant is not seeking manufacturing or processing authority with this request.

FTZ procedures could exempt Cummins from customs duty payments on foreign parts and components that are re-exported (about 16% of shipments). On domestic shipments, duty payments would be deferred until the foreign merchandise is shipped from the facility and entered for U.S. consumption. Subzone status would further allow Cummins to realize logistical benefits through the use of weekly customs entry procedures. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is April 12, 2010. Rebuttal comments in response to material submitted during the foregoing period may be submitted during the subsequent 15-day period to April 26, 2010.

A copy of the application will be available for public inspection at the Office of the Foreign-Trade Zones Board's Executive Secretary at the address listed above and in the “Reading Room” section of the Board's Web site, which is accessible via www.trade.gov/ftz. FOR FURTHER INFORMATION contact Pierre Duy at Pierre.Duy@trade.gov or (202) 482-1378.

Dated: February 4, 2010.
Andrew McGilvray,
Executive Secretary.

[FR Doc. 2010-2989 Filed 2-9-10; 8:45 am]

BILLING CODE P